SECURITIES AND EXCHANGE COMMISSION

Sunshine Act Meetings

Notice is hereby given, pursuant to the provisions of the Government in the Sunshine Act, Public Law 94-409, that the Securities and Exchange Commission will hold the following meetings during the week of October 1, 2007:

An Open Meeting will be held on Monday, October 1, 2007 at 10 a.m., in the Auditorium, Room L-002 and a Closed Meeting will be held on Wednesday, October 3, 2007 at 2 p.m.

Commissioners, Counsel to the Commissioners, the Secretary to the Commission, and recording secretaries will attend the Closed Meeting. Certain staff members who have an interest in the matters may also be present.

The General Counsel of the Commission, or his designee, has certified that, in his opinion, one or more of the exemptions set forth in 5 U.S.C. 552b(c)(5), (7), (9)(B), and (10) and 17 CFR 200.402(a)(5), (7), 9(ii) and (10), permit consideration of the scheduled matters at the Closed Meeting.

Commissioner Atkins, as duty officer, voted to consider the items listed for the closed meeting in closed session, and determined that no earlier notice thereof was possible.

The subject matter of the Open Meeting, scheduled for Monday, October 1, 2007 will be:

The Commission will hear oral argument in an appeal by Stephen J. Horning from the decision of an administrative law judge. Horning was the president, registered financial and operations principal, compliance officer, and a director of Rocky Mountain Securities & Investments, Inc., formerly a registered broker-dealer.

The law judge found that:

Horning failed reasonably to supervise two former Rocky Mountain employees with a view to preventing their violations of Section 10(b) of the Securities Exchange Act of 1934 and Exchange Act Rule 10b-5; and

Horning was a cause of Rocky Mountain's inaccurate books and records and its filing of materially false reports in violation of Exchange Act Sections 15(c)(3), 17(a), and 17(e) and Exchange Act Rules 15c3-1, 15c3-3, 17a-3, 17a-5(a), 17a-5(c), 17a-5(d), 17a-11, and 17a-13.

The law judge barred Horning from association with any broker or dealer in a supervisory capacity and suspended him from association with any broker or dealer in any capacity for twelve months.

Among the issues likely to be argued are

1. Whether Horning failed reasonably to supervise; or

2. Whether Horning was the cause of the alleged financial, books, and recordkeeping violations; and

3. If so, whether sanctions should be imposed in the public interest.

The subject matter of the Closed Meeting scheduled for Wednesday, October 3, 2007 will be:

Formal order of investigation;

Institution and settlement of injunctive actions;

Institution and settlement of administrative proceedings of an enforcement nature;

An adjudicatory matter; and

Other matters related to enforcement actions.

At times, changes in Commission priorities require alterations in the scheduling of meeting items.

For further information and to ascertain what, if any, matters have been added, deleted or postponed, please contact:

The Office of the Secretary at (202) 551-5400.

Dated: September 26, 2007.
Nancy M. Morris,
Secretary.

[FR Doc. E7-19384 Filed 10-1-07; 8:45 am]

BILLING CODE 8011-01-P